SECURITIES AND EXCHANGE COMMISSION

Submission for OMB Review; Comment Request

Upon Written Request, Copies Available From: Securities and Exchange Commission, Office of Filings and Information Services, Washington, DC 20549

Extension:

Form N-SAR;—SEC File No. 270-292—OMB Control No. 3235-0330.

Notice is hereby given that pursuant to the Paperwork Reduction Act of 1995 (44 U.S.C. 3501 et seq.) the Securities and Exchange Commission (“Commission”) has submitted to the Office of Management and Budget (“OMB”) a request for extension of the previously approved collection of information discussed below.

Form N-SAR—Semi-Annual Report for Registered Investment Companies

Form N-SAR (17 CFR 274.101) is the form used by all registered investment companies with the exception of face amount certificate companies, to comply with the periodic filing and disclosure requirements imposed by Section 30 of the Investment Company Act of 1940 (15 U.S.C. 80a-1 et seq.), and of rules 30a1-1 and 30b1-1 under the Act. The information required to be filed with the Commission assures the public availability of the information and permits verification of compliance with Investment Company Act requirements. Registered unit investment trusts are required to provide this information on an annual report filed with the Commission on Form N-SAR (OMB Control No. 3235-0330) pursuant to rule 30a1-1 under the Investment Company Act (17 CFR 30a1-1), and registered management investment companies must submit the required information on a semi-annual report filed on Form N-SAR pursuant to rule 30b1-1 under the Act (17 CFR 270.30b1-1).¹

¹ Face amount certificate companies are required to file periodic reports pursuant to Section 13 or 15(d) of the Exchange Act [15 U.S.C. 78m, 78o(d)].

The Commission estimates that the total number of respondents is 4,130 and the total annual number of responses is 7,430 ((3,300 respondents × 2 responses per year) + (830 respondents × 1 response per year)). The Commission estimates that each registrant filing a report on Form N-SAR would spend, on average, 14.43 hours in preparing and filing the Form and that the total hour burden for all Form N-SAR filings would be 107,203 hours. Estimates of the burden hours are made solely for the purposes of the PRA, and are not derived from a comprehensive or even a representative survey or study of the costs of Commission rules and forms.

The information provided on Form N-SAR is mandatory. The information provided on Form N-SAR will not be kept confidential. An agency may not conduct or sponsor, and a person is not required to respond to, a collection of information unless it displays a currently valid control number.

General comments regarding the above information should be directed to the following persons: (i) Desk Officer for the Securities and Exchange Commission, Office of Information and Regulatory Affairs, Office of Management and Budget, Room 10102, New Executive Office Building, Washington, DC 20503 or e-mail to: David_Rostker@omb.eop.gov; and (ii) R. Corey Booth, Director/Chief Information Officer, Securities and Exchange Commission, c/o Shirley Martinson, 6432 General Green Way, Alexandria, Virginia 22312, or send an e-mail to PRA_Mailbox@sec.gov. Comments must be submitted to OMB within 30 days of this notice.

Dated: April 10, 2006.
Nancy M. Morris,
Secretary.

[FR Doc. E6-5648 Filed 4-14-06; 8:45 am]

BILLING CODE 8010-01-P